DEPARTMENT OF LABOR

Mine Safety and Health Administration

Petitions for Modification

The following parties have filed petitions to modify the application of existing safety standards under section 101(c) of the Federal Mine Safety and Health Act of 1977.

1. Clintwood Elkhorn Mining Company

[Docket No. M-2004-042-C]

Synergy Engineering Services, PLLC, 34 First Street, Foxbottom, Harold, Kentucky 41635, Permit #1201764, has filed a petition for modification for the Clintwood Elkhorn Mining Company, P.O. Box 196, Hurley, Virginia 24620, to modify the application of 30 CFR 77.214(a) (Refuse piles; general) for the Devils Branch Blair #1 Mine (MSHA I.D. No. 44-07014), and the Devils Branch Blair #2 Mine (MSHA I.D. No. 44-07032) located in Buchanan County, Virginia. The petitioner proposes to backfill two existing underground mine face-ups, Blair #1 and Blair #2, with coarse scalp rock material generated from an adjacent underground mine. The Blair #1 Mine is still active, and will be backfilled once mining is complete; the Blair #2 Mine has been mined out and abandoned. A total of four entries exist in both the Blair #1 and Blair #2 Mine, and all entries are located in the Blair coal seam at approximately 1395 feet elevation. The petitioner has listed specific procedures in this petition that would be followed to seal the mine openings. The petitioner asserts that the proposed alternative method would not diminish the level of protection provided to the miners.

Request for Comments

Persons interested in these petitions are encouraged to submit comments via Federal eRulemaking Portal: http://www.regulations.gov; E-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before November 18, 2004. Copies of these petitions are available for inspection at that address.

Dated at Arlington, Virginia, this 13th day of October, 2004.
Marvin W. Nichols, Jr.,
Director, Office of Standards, Regulations, and Variances.

[FR Doc. 04-23352 Filed 10-18-04; 8:45 am]

BILLING CODE 4510-43-P